DEPARTMENT OF JUSTICE

Antitrust Division

Notice Pursuant to the National Cooperative Research and Production Act of 1993—Naval Surface Technology & Innovation Consortium

Notice is hereby given that, on July 8, 2024, pursuant to section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Accipiter Systems, Inc., Wexford, PA; AERMOR LLC, Virginia Beach, VA; CMI Defense America dba John Cockerill Defense America, Auburn Hills, MI; Enginuity Partners LLC, Middletown, RI; Exponent, Inc., Menlo Park, CA; Federal Strategies LLC, Fredericksburg, VA; Florida State University Center for Advanced Power Systems, Tallahassee, FL; G Systems, Inc., Irving, TX; Gigantor Technologies, Melbourne Beach, FL; Mantel Technologies, Inc., Fort Collins, CO; Pliant Energy Systems, Inc., Brooklyn, NY; Premier LogiTech LLC, Coppell, TX; Radio Reconnaissance Technologies, Inc., Fredericksburg, VA; Redshred LLC, Catonsville, MD; Rhea Space Activity, Inc., Washington, DC; SDA Solutions LLC, Triangle, VA; Syneren Technologies, Vienna, VA; Tapestry Solutions, San Deigo, CA; Tetrad Digital Integrity, LLC, Washington, DC; Tridentis LLC, Alexandria, VA; Wolfspeed, Inc., Durham, NC; and Wright Electric, Inc., Malta, NY, have been added as parties to this venture.

Also, Advanced Hydrogen Technologies Corp., Lenoir, NC; Aquabotix Technology Corp., Jamestown, RI; HII Technical Solutions Corp., Virginia Beach, VA; Assurity Group LLC, Tampa, FL; Polaris Contract Manufacturing, Inc., Marion, MA; and GSD LLC, Williamsburg, VA, have withdrawn as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on April 10, 2024. A notice was published in the Federal Register pursuant to section 6(b) of the Act on June 28, 2024 (89 FR 54045).

Suzanne Morris,
Deputy Director Civil Enforcement Operations, Antitrust Division.

[FR Doc. 2024-22074 Filed 9-25-24; 8:45 am]

BILLING CODE P